DEPARTMENT OF LABOR

Occupational Safety and Health Administration

[Docket No. NRTL1-98]

National Technical Systems, Inc.; Application for Renewal of Recognition

AGENCY: Occupational Safety and Health Administration (OSHA), Labor.

ACTION: Notice.

SUMMARY: This notice announces the application of National Technical Systems, Inc., (NTS) for renewal of its recognition, and presents the Agency's preliminary finding to grant this request. This preliminary finding does not constitute an interim or temporary approval of the renewal application.

DATES: You must submit information or comments, or any request for extension of the time to comment, by the following dates:

• Hard copy: postmarked or sent by September 1, 2006.

• Electronic transmission or facsimile: sent by September 1, 2006.

ADDRESSES: You may submit information or comments to this notice—identified by docket number NRTL1-98—by any of the following methods:

• Federal eRulemaking Portal: http://www.regulations.gov. Follow the instructions for submitting comments.

• OSHA Web site: http://ecomments.osha.gov. Follow the instructions for submitting comments on OSHA's Web page.

• Fax: If your written comments are 10 pages or fewer, you may fax them to the OSHA Docket Office at (202) 693-1648.

• Regular mail, express delivery, hand delivery and courier service: Submit three copies to the OSHA Docket Office, Docket No. NRTL1-98, U.S. Department of Labor, 200 Constitution Avenue, NW., Room N-2625, Washington, DC 20210; telephone (202) 693-2350. (OSHA's TTY number is (877) 889-5627). OSHA Docket Office hours of operation are 8:15 a.m. to 4:45 p.m., EST.

Instructions: All comments received will be posted without change to http://dockets.osha.gov, including any personal information provided. OSHA cautions you about submitting personal information such as social security numbers and birth dates.

Docket: For access to the docket to read background documents or comments received, go to http://dockets.osha.gov. Contact the OSHA Docket Office for information about materials not available through the OSHA Web page and for assistance in using the Web page to locate docket submissions.

Extension of Comment Period: Submit requests for extensions concerning this notice to the Office of Technical Programs and Coordination Activities, NRTL Program, Occupational Safety and Health Administration, U.S. Department of Labor, 200 Constitution Avenue, NW., Room N-3655, Washington, DC 20210. or, fax to (202) 693-1644.

FOR FURTHER INFORMATION CONTACT: Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Renewal Application

The Occupational Safety and Health Administration (OSHA) hereby gives notice that National Technical Systems, Inc., (NTS) has applied for renewal of its recognition as a Nationally Recognized Testing Laboratory (NRTL). The NTS renewal request covers its existing scope of recognition. OSHA's current scope of recognition for NTS may be found in the following informational Web page: http://www.osha.gov/dts/otpca/nrtl/ nts.html.

OSHA recognition of an NRTL signifies that the organization has met the legal requirements in § 1910.7 of Title 29, Code of Federal Regulations (29 CFR 1910.7). Recognition is an acknowledgment that the organization can perform independent safety testing and certification of the specific products covered within its scope of recognition and is not a delegation or grant of government authority. As a result of recognition, employers may use products “properly certified”¹ by the NRTL to meet OSHA standards that require testing and certification.

¹ Properly certified means, in part, that the product is labeled or marked with the NRTL's “registered” certification mark (i.e., the mark the NRTL uses for its NRTL work) and that the product certification falls within the scope of recognition of the NRTL.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha.gov/dts/otpca/nrtl/index.html.

The most recent notice published by OSHA specifically related to the NTS recognition granted its NRTL status, which became effective as noted below. However, OSHA issued a notice to modify the scope of a number of NRTLs to replace or delete withdrawn test standards (70 FR 11273, March 8, 2005). NTS was one of those NRTLs.

The current address of the NTS facility already recognized by OSHA is: National Technical Systems, Inc., 1146 Massachusetts Avenue, Boxborough, MA 01719.

General Background on the Renewal Application

National Technical Systems, Inc., (NTS) initially received OSHA recognition as a Nationally Recognized Testing Laboratory on December 10, 1998 (63 FR 68306) for a five-year period ending on December 10, 2003. Appendix A to 29 CFR 1910.7 stipulates that the period of recognition of an NRTL is five years and that an NRTL may renew its recognition by applying not less than nine months, nor more than one year, before the expiration date of its current recognition. NRTLs submitting requests within this allotted time period retain their recognition during OSHA's renewal process. NTS has submitted a request, dated February 13, 2003 (see Exhibit 7), to renew its recognition, within the allotted time period, and retains its recognition pending OSHA's final decision in this renewal process. In connection with the renewal, OSHA staff performed an on-site visit of the NRTL's site in January 2005. Based on this visit, the staff recommended renewal of the NTS recognition in the on-site review report dated July 22, 2005 (see Exhibit 7-1). The NTS existing scope of recognition consists of the facility listed above, and the test standards and supplemental programs listed below. OSHA deferred processing of the renewal request due to certain changes the NRTL considered making to its operations, but processing of the request also has been delayed through no fault of the NRTL.

NTS seeks renewal of its recognition for the one site that OSHA currently includes within the NRTL's scope. NTS also seeks renewal of its recognition for continued testing and certification of products for demonstration of conformance to the following test standards.

UL 484 Room Air Conditioners

UL 489 Molded-Case Circuit Breakers, Molded-Case Switches, and Circuit-Breaker Enclosures

UL 499 Electric Heating Appliances

UL 544 Medical and Dental Equipment

UL 1012 Power Units Other Than Class 2

UL 1778 Uninterruptible Power Systems

UL 1863 Communications-Circuit Accessories

UL 1995 Heating and Cooling Equipment

UL 60601-1 Medical Electrical Equipment, Part 1: General Requirements for Safety

UL 60950 Information Technology Equipment—Safety—Part 1: General Requirements

UL 61010A-1 Electrical Equipment For Laboratory Use; Part 1: General Requirements

UL 61010B-1 Electrical Measuring and Test Equipment; Part 1: General Requirements

The designations and titles of the above test standards were current at the time of the preparation of this notice.

OSHA's recognition of NTS, or any NRTL, for a particular test standard is limited to equipment or materials (i.e., products) for which OSHA standards require third-party testing and certification before use in the workplace. Consequently, if a test standard also covers any product(s) for which OSHA does not require such testing and certification, an NRTL's scope of recognition does not include that product(s).

Many UL test standards also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Programs and Procedures

The renewal would include continued use by NTS of supplemental programs 4, 8, and 9.

Program 4: Acceptance of witnessed testing data.

Program 8: Acceptance of product evaluations from organizations that function as part of the International Electrical Commission Certification Body (IEC-CB) Scheme.

Program 9: Acceptance of services other than testing or evaluation performed by subcontractors or agents.

In developing these programs, OSHA responded to industry requests and allowed certain of their ongoing practices to continue but in a manner controlled by OSHA criteria. In this sense, they are special conditions that the Agency places on an NRTL's recognition. OSHA does not consider these programs in determining whether an NRTL meets the requirements for recognition under 29 CFR 1910.7. However, these programs help to define the scope of that recognition.

Preliminary Finding on the Renewal

NTS has submitted an acceptable request for renewal of its recognition as an NRTL. Our review of the application file, the on-site review report, and other pertinent documents, indicates that NTS can meet the requirements, as prescribed by 29 CFR 1910.7, for the renewal of the one site and the test standards and programs listed above. This preliminary finding does not constitute an interim or temporary approval of the application.

OSHA welcomes public comments, in sufficient detail, as to whether NTS has met the requirements of 29 CFR 1910.7 for the renewal of its recognition as a Nationally Recognized Testing Laboratory. Your comments should consist of pertinent written documents and exhibits. Should you need more time to comment, you must request it in writing, including reasons for the request. OSHA must receive your written request for extension at the address provided above no later than the last date for comments. OSHA will limit any extension to 30 days, unless the requester justifies a longer period. We may deny a request for extension if it is not adequately justified. You may obtain or review copies of the NTS request, the on-site review report, and all submitted comments, as received, by contacting the Docket Office, Room N2625, Occupational Safety and Health Administration, U.S. Department of Labor, at the above address. Docket No. NRTL1-98 contains all materials in the record concerning the NTS application.

The NRTL Program staff will review all timely comments and, after resolution of issues raised by these comments, will recommend whether to grant the NTS renewal request. The Assistant Secretary will make the final decision on granting the renewal and, in making this decision, may undertake other proceedings that are prescribed in Appendix A to 29 CFR 1910.7. OSHA will publish a public notice of this final decision in the Federal Register.

Signed at Washington, DC this 9th day of August, 2006.
Edwin G. Foulke, Jr.,
Assistant Secretary.

[FR Doc. E6-13542 Filed 8-16-06; 8:45 am]

BILLING CODE 4510-26-P